DEPARTMENT OF ENERGY

Federal Energy Regulatory Commission

[Docket No. AD21-15-000]

Joint Federal-State Task Force on Electric Transmission; Notice of Meeting and Agenda

As first announced in the Commission's September 8, 2022 Notice in the above-captioned docket,¹ the next public meeting of the Joint Federal-State Task Force on Electric Transmission (Task Force) will be held on November 15, 2022, at the New Orleans Marriott in New Orleans, LA, from approximately 8:00 a.m. to 10:30 a.m. Central time. Commissioners may attend and participate in this meeting. Attached to this Notice is an agenda for the meeting.

¹ Joint Fed.-State Task Force on Elec. Transmission, Notice, Docket No. AD21-15-000 (issued Sept. 8, 2022).

The meeting will be open to the public for listening and observing and on the record. There is no fee for attendance and registration is not required. The public may attend in person or via Webcast.² This conference will be transcribed. Transcripts will be available for a fee from Ace Reporting, 202-347-3700.

² A link to the Webcast will be available on the day of the event at https://www.ferc.gov/TFSOET.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

For more information about this Notice, please contact: Gretchen Kershaw (Legal Information), Office of the General Counsel, (202) 502-8213, Gretchen.Kershaw@ferc.gov.

Dated: November 1, 2022.
Debbie-Anne A. Reese,
Deputy Secretary.

[FR Doc. 2022-24241 Filed 11-4-22; 8:45 am]

BILLING CODE 6717-01-P